DEPARTMENT OF COMMERCE

International Trade Administration, Commerce.

Export Trade Certificate of Review

ACTION: Notice of Issuance of an Amended Export Trade Certificate of Review, Application No. 05-A0001.

SUMMARY: On July 11, 2006, The U.S. Department of Commerce issued an amended Export Trade Certificate of Review to Central America Poultry Export Quota, Inc. (“CA-PEQ”).

FOR FURTHER INFORMATION CONTACT: Jeffrey C. Anspacher, Director, Export Trading Company Affairs, International Trade Administration, (202) 482-5131 (this is not a toll-free number) or E-mail at oetca@ita.doc.gov.

SUPPLEMENTARY INFORMATION: Title III of the Export Trading Company Act of 1982 (15 U.S.C. 4001-21) authorizes the Secretary of Commerce to issue Export Trade Certificates of Review. The regulations implementing Title III are found at 15 CFR Part 325 (2005).

Export Trading Company Affairs (“ETCA”) is issuing this notice pursuant to 15 CFR 325.6(b), which requires the U.S. Department of Commerce to publish a summary of the certification in the Federal Register. Under Section 305(a) of the Act and 15 CFR 325.11(a), any person aggrieved by the Secretary's determination may, within 30 days of the date of this notice, bring an action in any appropriate district court of the United States to set aside the determination on the ground that the determination is erroneous.

Description of Amended Certificate

The original CA-PEQ Certificate (No. 05-00001) was issued on January 30, 2006 (71 FR 6753, February 9, 2006).

CA-PEQ's Export Trade Certificate of Review has been amended to:

1. Add the following association as a new “Member” of the Certificate within the meaning of § 325.2(1) of the Regulations (15 CFR 325.2(1)): Federacion de Avicultores de Honduras (“FEDAVIH”), San Pedro Sula, Honduras.

The effective date of the amended certificate is April 12, 2006. A copy of the amended certificate will be kept in the International Trade Administration's Freedom of Information Records Inspection Facility, Room 4100, U.S. Department of Commerce, 14th Street and Constitution Avenue, NW., Washington, DC 20230.

Dated: July 11, 2006.
Jeffrey C. Anspacher,
Director, Export Trading Company Affairs.

[FR Doc. E6-11110 Filed 7-13-06; 8:45 am]

BILLING CODE 3510-DR-P